DEPARTMENT OF ENERGY

National Nuclear Security Administration

Draft Complex Transformation Supplemental Programmatic Environmental Impact Statement

AGENCY: National Nuclear Security Administration, U.S. Department of Energy.

ACTION: Notice of Availability and Public Hearings.

SUMMARY: The National Nuclear Security Administration (NNSA), a semi-autonomous agency within the U.S. Department of Energy (DOE), announces the availability of the Draft Complex Transformation Supplemental Programmatic Environmental Impact Statement (Draft Complex Transformation SPEIS, DOE/EIS-0236-S4). The Draft Complex Transformation SPEIS analyzes the potential environmental impacts of reasonable alternatives to continue the transformation of the U.S. nuclear weapons complex to one that is smaller, more efficient, more secure, and better able to respond to changes in national security requirements. While NNSA has revised the document title from that indicated in the Notice of Intent, it remains a supplement to the Stockpile Stewardship and Management Programmatic Environmental Impact Statement. NNSA has prepared this document in accordance with the National Environmental Policy Act (NEPA), the Council on Environmental Quality (CEQ) regulations that implement the procedural provisions of NEPA (40 CFR Parts 1500-1508), and DOE procedures implementing NEPA (10 CFR Part 1021).

DATES: NNSA invites comments on the Draft Complex Transformation SPEIS during the 90-day public comment period, which ends on April 10, 2008. NNSA will consider comments received after this date to the extent practicable as it prepares the Final Complex Transformation SPEIS. NNSA will hold 19 public hearings on the Draft Complex Transformation SPEIS. The locations, dates, and times are listed in the SUPPLEMENTARY INFORMATION section.

ADDRESSES: Requests for additional information on the Draft Complex Transformation SPEIS, including requests for copies of the document, should be directed to: Mr. Theodore A. Wyka, Complex Transformation SPEIS Document Manager, Office of Transformation, NA-10.1, Department of Energy/NNSA, 1000 Independence Avenue, SW., Washington, DC 20585, toll free 1-800-832-0885 ext. 63519. Written comments on the Draft Complex Transformation SPEIS should be submitted to the above address, by facsimile to 1-703-931-9222, or by e-mail to complextransformation@ nnsa.doe.gov. Please mark correspondence “Draft Complex Transformation SPEIS Comments.”

For general information regarding the DOE NEPA process contact: Ms. Carol M. Borgstrom, Director, Office of NEPA Policy and Compliance, GC-20, U.S. Department of Energy, 1000 Independence Avenue, SW., Washington, DC 20585, telephone 202-586-4600, or leave a message at 1-800-472-2756. Additional information regarding DOE NEPA activities and access to many of DOE's NEPA documents are available on the Internet through the DOE NEPA Web site at http://www.eh.doe.gov/nepa.

SUPPLEMENTARY INFORMATION: Public Hearings and Invitation to Comment. NNSA will hold 19 public hearings on the Draft Complex Transformation SPEIS. The hearings will be held at the following locations, dates, and times:

North Augusta, South Carolina, North Augusta Community Center, 495 Brookside Avenue, North Augusta, SC, Thursday, February 21, 2008 (11 a.m.-3 p.m. and 6 p.m.-10 p.m.)

Oak Ridge, Tennessee, New Hope Center, 602 Scarboro Road (Corner of New Hope and Scarboro Roads), Oak Ridge, TN, Tuesday, February 26, 2008 (11 a.m.-3 p.m. and 6 p.m.-10 p.m.)

Amarillo, Texas, Amarillo Globe-News Center, Education Room, 401 S. Buchanan, Amarillo, TX, Thursday, February 28, 2008 (11 a.m.-3 p.m. and 6 p.m.-10 p.m.)

Tonopah, Nevada, Tonopah Convention Center, 301 Brougher Avenue, Tonopah, NV, Tuesday, March 4, 2008 (6 p.m.-10 p.m.)

Las Vegas, Nevada, Atomic Testing Museum, 755 E. Flamingo Road, Las Vegas, NV, Thursday, March 6, 2008 (11 a.m.-3 p.m. and 6 p.m.-10 p.m.)

Socorro, New Mexico, Macey Center (at New Mexico Tech), 801 Leroy Place, Socorro, NM, Monday, March 10, 2008 (6 p.m.-10 p.m.)

Albuquerque, New Mexico, Albuquerque Convention Center, 401 2nd Street NW, Albuquerque, NM, Tuesday, March 11, 2008 (11 a.m.-3 p.m. and 6 p.m.-10 p.m.)

Los Alamos, New Mexico, Hilltop House, 400 Trinity Drive at Central, Los Alamos, NM, Wednesday, March 12, 2008 (6 p.m.-10 p.m.)

Los Alamos, New Mexico, Hilltop House, 400 Trinity Drive at Central, Los Alamos, NM, Thursday, March 13, 2008 (11 a.m.-3 p.m.)

Santa Fe, New Mexico, Genoveva Chavez Community Center, 3221 Rodeo Road, Santa Fe, NM, Thursday, March 13, 2008 (6 p.m.-10 p.m.)

Tracy, California, Holiday Inn Express, 3751 N. Tracy Blvd., Tracy, CA, Tuesday, March 18, 2008 (6 p.m.-10 p.m.)

Livermore, California, Robert Livermore Community Center, 4444 East Avenue, Livermore, CA, Wednesday, March 19, 2008 (11 a.m.-3 p.m. and 6 p.m.-10 p.m.)

Washington, DC, Forrestal Building, 1000 Independence Ave, SW., Washington, DC, Tuesday, March 25, 2008 (11 a.m.-3 p.m.)

Individuals who would like to present comments orally at these hearings must register upon arrival at the hearing. NNSA will allot three to five minutes, depending upon the number of speakers, to each individual wishing to speak so as to ensure that as many people as possible have the opportunity to speak. More time may be allotted by the hearing moderator as circumstances allow. NNSA officials will be available to discuss the Draft Complex Transformation SPEIS and answer questions during the first hour. NNSA will then hold a plenary session at each public hearing in which officials will explain the Draft Complex Transformation SPEIS and the analyses in it. Following the plenary session, the public will have an opportunity to provide oral and written comments. Oral comments from the hearings and written comments submitted during the comment period will be considered by NNSA in preparing the Final Complex Transformation SPEIS.

The Draft Complex Transformation SPEIS and additional information regarding complex transformation are available on the Internet at http://www.ComplexTransformationSPEIS.com and http://www.nnsa.doe.gov. The Draft Complex Transformation SPEIS and referenced documents are available to the public at the DOE Reading Rooms and public libraries listed below:

California

Lawrence Livermore National Laboratory, NNSA/LSO Public Reading Room, LLNL Discovery Center (Visitors Center), Building 651, East Gate Entrance, Greenville Road, Livermore, CA 94550, Phone: (925) 422-4599.

Livermore Public Library, 1188 S. Livermore Avenue, Livermore, CA 94550, Phone: (925) 373-5500.

Tracy Public Library, 20 East Eaton Avenue, Tracy, CA 95376, Phone: (209) 937-8221.

Georgia

Southeastern Power Administration, Technical Library, 1166 Athens Tech Road, Elberton, GA 30635, Phone: (706) 213-3815.

Missouri

Kansas City Public Library, 14 West 10th Street, Kansas City, MO 64105, Phone: (816) 701-3400.

North-East Branch of the Kansas City Library, 6000 Wilson Road, Kansas City, MO 64123, Phone: (816) 701-3485.

Nevada

NNSA Nevada Site Office, Public Reading Room, 755 E. Flamingo Road, Las Vegas, NV 89119, Phone (702) 295-3521.

Tonopah Public Library, 167 S. Central Street, Tonopah, NV 89049, Phone: (775) 482-3374.

New Mexico

Los Alamos National Laboratory, Research Library, West Jemez Road, Los Alamos, NM 87545, Phone: (505) 667-5809.

NNSA Service Center, Zimmerman Library, Government Documents, University of New Mexico, Albuquerque, NM 87131, Phone: (505) 277-5441.

Mesa Public Library, 2400 Central Avenue, Los Alamos, NM 87544, Phone: (505) 662-8240.

Santa Fe Public Library, 145 Washington Avenue, Santa Fe, NM 87501, Phone: (505) 955-6780.

Socorro Public Library, 401 Park Street, Socorro, NM 87801, Phone: (505) 835-1114.

South Carolina

U.S. Department of Energy, Public Reading Room, University of South Carolina, 471 University Parkway, Aiken, SC 29801, Phone: (803) 641-3320.

Tennessee

Oak Ridge Site Operations Office, DOE Information Center, 475 Oak Ridge Turnpike, Oak Ridge, TN 37830, Phone: (865) 241-4780.

Texas

Amarillo Central Library, 413 E. 4th, Amarillo, TX 79101, Phone: (806) 378-3054.

Amarillo North Branch Library, 1500 NE 24th, Amarillo, TX 79107, Phone: (806) 381-7931.

Washington, DC

U.S. Department of Energy, Public Reading Room, 1000 Independence Avenue, SW., Washington, DC 20585, Phone: (202) 586-3142.

Background. The national security of the United States requires NNSA to maintain a safe, secure, and reliable nuclear weapons stockpile and core competencies in nuclear weapons. The Nation's national security requirements are established by the President and funded by the Congress, which have assigned to NNSA the responsibility of maintaining a nuclear arsenal and a complex of nuclear facilities capable of supporting this highly technical mission. The Draft Complex Transformation SPEIS is a Supplement to the 1996 Stockpile Stewardship and Management Programmatic Environmental Impact Statement, which analyzed programmatic alternatives for the weapons complex in the absence of nuclear testing. NNSA maintains the safety, security, and reliability of nuclear weapons through the Stockpile Stewardship Program. This program currently involves integrated activities at three NNSA national laboratories, four industrial plants, and a nuclear weapons test site. The effects of old facilities, aging weapons, and evolving national security requirements have led NNSA to propose further changes to the Complex in order to create a smaller and more responsive, efficient, and secure infrastructure, especially with regards to special nuclear materials (SNM).¹

¹ As defined in Section 11 of the Atomic Energy Act of 1954, SNM is: (1) Plutonium, uranium enriched in the isotope 233 or in the isotope 235; or (2) any material artificially enriched by any of the foregoing and any other material which the U.S. Nuclear Regulatory Commission determines to be special nuclear material.

Today's Complex consists of eight major sites located in seven states, and the Tonopah Test Range (TTR). It enables NNSA to design, develop, manufacture, and maintain nuclear weapons; certify their safety, security, and reliability; conduct surveillance on them; store Category I/II ² quantities of SNM; and dismantle and disposition retired weapons. The major sites within the Complex are the Y-12 National Security Complex (Y-12), Oak Ridge, Tennessee; Savannah River Site (SRS), Aiken, South Carolina; Pantex Plant (Pantex), Amarillo, Texas; Los Alamos National Laboratory (LANL), Los Alamos, New Mexico; Lawrence Livermore National Laboratory (LLNL), Livermore, California; Sandia National Laboratories (SNL), Albuquerque, New Mexico, and other locations; Nevada Test Site (NTS), 65 miles northwest of Las Vegas, Nevada; and the Kansas City Plant (KCP), Kansas City, Missouri.

² Special nuclear materials are grouped into Security Categories I, II, III, and IV based on the type, attractiveness level, and quantity of the materials. Categories I and II require the highest level of security.

NNSA conducted a public scoping process that began with the publication of a Notice of Intent (NOI) in the Federal Register on October 19, 2006 (71 FR 61731), in which NNSA announced it intended to prepare a SPEIS and invited public comment on the scope of the environmental review. In the NOI, NNSA's proposed action was referred to as Complex 2030. NNSA now believes that the term Complex Transformation better reflects the proposed action and alternatives evaluated because NNSA anticipates that it would be able to accomplish much of the proposed transformation in the next decade (i.e., well before 2030). The NOI also announced the schedule for public scoping meetings that were held in November and December 2006, near sites that might be affected by continued transformation of the Complex and in Washington, DC. In addition to the meetings, the public was encouraged to provide comments via mail, e-mail, and fax. More than 33,000 comment documents were received from individuals, interested groups, Federal, state, and local officials, and Tribes during the scoping period. All comments received during the 90-day public scoping period were considered by NNSA in preparing the Draft Complex Transformation SPEIS. All late comments received were also reviewed and, in general, determined to be similar to comments submitted within the 90-day period. NNSA's development and analysis of alternatives for the SPEIS reflect consideration of these comments.

The Draft Complex Transformation SPEIS analyzes two proposed actions. The first proposed action would restructure SNM facilities (facilities that use plutonium and highly enriched uranium to produce components for the nuclear weapons stockpile). The second proposed action would restructure research and development (R&D) and testing facilities. These two proposed actions differ in their magnitude and timing. The alternatives for restructuring SNM facilities, which would take 10 years or more, are necessarily broad and address issues such as where to locate these facilities and whether to construct new facilities or renovate existing ones for these functions. As such, the Draft Complex Transformation SPEIS analysis is “programmatic” for the proposed action of restructuring SNM facilities. Tiered, project-specific NEPA documents would likely be needed to inform decisions unless existing site-wide EIS's or other NEPA documents were sufficient.

In comparison, NNSA proposes to pursue restructuring of R&D and testing facilities in the near-term, independent of decisions it may make as to restructuring of SNM facilities. The proposed action to restructure R&D and testing facilities would likely not require further NEPA documentation to implement decisions after NNSA issues the Final Complex Transformation SPEIS and Record of Decision.

The alternatives for restructuring SNM facilities are: (1) No Action; (2) Distributed Centers of Excellence; (3) Consolidated Centers of Excellence; and (4) Capability-Based. Common to each of these are alternatives to consolidate storage of certain SNM. The No Action Alternative represents continuation of the status quo including implementation of decisions already made on the basis of prior NEPA analyses. Under the No Action Alternative, NNSA would not make major changes to the missions assigned to NNSA sites.

The Distributed Centers of Excellence Alternative retains the three major SNM functions (plutonium, uranium, and weapon assembly/disassembly) involving Category I/II quantities of SNM at up to three sites. This alternative would create a consolidated plutonium center for R&D, storage, processing, and manufacture of plutonium parts for nuclear weapons. The following sites are evaluated for the consolidated plutonium center: Los Alamos, NTS, Pantex, SRS, and Y-12. Uranium storage and operations (including the storage and use of highly enriched uranium) would remain at Y-12. Weapons assembly, disassembly, and high explosive fabrication would remain at Pantex.

The Consolidated Centers of Excellence Alternative consolidates the three major SNM functions (plutonium, uranium, and weapon assembly/disassembly) involving Category I/II quantities of SNM at one or two sites. The single site option is referred to as the Consolidated Nuclear Production Center option and the two site option is referred to as the Consolidated Nuclear Center option. Three major facilities are involved in this alternative: a Consolidated Plutonium Center, a Consolidated Uranium Center, and an assembly/disassembly/high explosives facility, which would assemble and disassemble nuclear weapons, and fabricate high explosives. The following sites are evaluated for these facilities: Los Alamos, NTS, Pantex, SRS, and Y-12.

Under the Capability-Based Alternative, NNSA would maintain basic capabilities for manufacturing components for all stockpile weapons, as well as laboratory and experimental capabilities to support stockpile decisions, but would reduce production capabilities at existing or planned facilities. Under this alternative, pit production at LANL would not be expanded beyond a capability to provide 50 pits ³ per year. Production capacities at Pantex, Y-12, and SRS (tritium production) would be reduced to capability-based levels.

³ A pit is the central core of a nuclear weapon, typically containing plutonium-239, that undergoes fission when compressed by high explosives.

To consolidate Category I/II quantities of SNM, NNSA proposes to remove Category I/II SNM from LLNL by approximately 2012, and phase-out operations at LLNL involving Category I/II quantities of SNM.⁴ NNSA is also proposing to transfer more than 10,000 pits currently stored at Pantex in Zone 4 to Zone 12, enabling all Category I/II quantities of SNM at Pantex to be consolidated into a central location, close to assembly, modification, and disassembly operations.

⁴ The LLNL Site-wide EIS (DOE/EIS-0348 and DOE/EIS-0236-S3, March 2005) assesses the environmental impacts of transporting SNM to and from LLNL and other sites as part of the proposed action, which NNSA decided to implement (70 FR 71491, November 29, 2005). That analysis includes consideration of transportation actions involving greater quantities of SNM and more shipments than are identified in this draft SPEIS.

For the proposed action to restructure R&D and testing facilities, the alternatives focus on immediate options to consolidate, relocate, or eliminate duplicative facilities and programs and to improve operating efficiencies. The following five functional capabilities are evaluated for this proposed action: tritium R&D; high explosives R&D; hydrodynamic testing; major environmental testing; and flight test operations. The sites potentially affected by decisions regarding these alternatives are: LANL, LLNL, SNL, NTS, Pantex, TTR, SRS, Y-12, and the White Sands Missile Range (WSMR). The WSMR, located in south-central New Mexico, is the largest installation in the Department of Defense. WSMR is being considered as a location for NNSA's flight test operations that are now conducted at TTR. Alternatives to relocate the current non-nuclear component design and engineering work at SNL/California also are being evaluated in this proposed action.

While NNSA has proposed to modernize its facilities that produce non-nuclear components in Kansas City, Missouri, this proposal is evaluated in a separate NEPA analysis. The General Services Administration (GSA), as the lead agency, and NNSA, as a cooperating agency, announced the availability of a draft Environmental Assessment on December 10, 2007 (72 FR 69690) that evaluates the potential environmental impacts of a proposal for GSA to procure the construction of a new facility to house NNSA's procurement and manufacturing operations for non-nuclear components. A recent analysis demonstrates that transferring non-nuclear operations outside of the Kansas City area is not cost effective. Whether non-nuclear operations remain at the current Kansas City Plant or move to a new facility in the vicinity of Kansas City would not affect nor be affected by decisions NNSA makes regarding alternatives evaluated in the Draft Complex Transformation SPEIS.

Other Federal Agency Involvement. The Department of the Air Force and U.S. Army Garrison White Sands are cooperating agencies in the preparation of the Draft Complex Transformation SPEIS.

Issued in Washington, DC, on January 7, 2008.
Thomas P. D'Agostino,
Administrator, National Nuclear Security Administration.

[FR Doc. E8-365 Filed 1-10-08; 8:45 am]

BILLING CODE 6450-01-P